DEPARTMENT OF THE INTERIOR

Bureau of Land Management

[BLM_ID_FRN_MO4500178277]

Notice of Public Meetings of the Idaho Resource Advisory Council

AGENCY: Bureau of Land Management, Department of the Interior.

ACTION: Notice of public meetings.

SUMMARY: In accordance with the Federal Land Policy and Management Act of 1976 and the Federal Advisory Committee Act of 1972, the U.S. Department of the Interior Bureau of Land Management (BLM) Idaho Resource Advisory Council (RAC) will meet as indicated below.

DATES: The Idaho RAC will participate in a field tour on Tuesday, May 14, 2024, from 9:00 a.m. to approximately 4:00 p.m. Pacific Time (PT). The RAC will then hold an in-person meeting on Wednesday, May 15, from 9:00 a.m. to 5:00 p.m. PT, with public comments accepted at 3:00 p.m.

The RAC will hold an in-person meeting on Friday, July 11, from 9:00 a.m. to 5:00 p.m., Mountain Time (MT), with public comments accepted at 3:00 p.m.

The RAC will participate in a field tour on Wednesday, October 9, from 9:00 a.m. to approximately 4:00 p.m. MT. The RAC will then hold an in-person meeting on Thursday, October 10, from 9:00 a.m. to 5:00 p.m. MT, with public comments accepted at 3:00 p.m. Virtual participation options will be available for the May 15, July 11, and October 10 meetings.

Public notice of any changes to this schedule will be posted on the Idaho RAC web page listed below 15 days in advance of each meeting.

ADDRESSES: The May 14 field tour will commence and conclude and the May 15 meeting will be held at the Interagency Natural Resources Center, 3232 W. Nursery Rd., Coeur d'Alene, ID 83815.

The July 11 meeting will be held at the BLM Idaho State Office, 1387 S. Vinnell Way, Boise, ID 83709.

The October 9 field tour will commence and conclude and the October 10 meeting will be held at the BLM Pocatello Field Office, 4350 Cliffs Dr., Pocatello, ID 83204.

Virtual attendance for each meeting will be offered via Zoom. Agendas, zoom registration, and participation information will be available on the Idaho RAC web page 30 days in advance of the meetings at http://tinyurl.com/3ajxvapd.

FOR FURTHER INFORMATION CONTACT: Idaho RAC Coordinator MJ Byrne, telephone: 208-373-4006, email: mbyrne@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The 15-member Idaho RAC advises the Secretary of the Interior, through the BLM, on a variety of public land issues in Idaho. Their diverse perspectives are represented in commodity, non-commodity, and local area interests. The Idaho RAC serves in an advisory capacity to BLM officials concerning issues relating to land use planning and management of public land resources located within the State of Idaho.

On May 14, the RAC will tour BLM managed recreation sites. The May 15 agenda items include presentations and discussions on proposed recreation fee increases within the Coeur d'Alene District and the Salmon Field Office, updates from the State and District Offices, and a pre-season fire outlook. The July 11 agenda items include presentations on renewable energy, recreation, restoration and fuels treatments, fire status, and updates from the State and District Offices. On October 9, the RAC will tour BLM managed restoration and fuels treatments sites showcasing Bipartisan Infrastructure Law and Inflation Reduction Act projects. The October 10 agenda items include presentations and discussions on proposed recreation fee increases within the Idaho Falls and Twin Falls Districts, presentations on restoration and fuels treatments, renewable energy, recreation, a fire season recap, and updates from the State and District Offices.

All meetings and field tours are open to the public, but members of the public who wish to participate in the tours must provide their own transportation and meals. Individuals who plan to attend and need special assistance, such as sign language interpretation or other reasonable accommodations, should contact the BLM (see FOR FURTHER INFORMATION CONTACT) at least seven business days prior to the meeting to give the Department of the Interior sufficient time to process your request. All reasonable accommodation requests are managed on a case-by-case basis. Each Idaho RAC meeting will have time allocated for public comments. Depending on the number of persons wishing to speak and the time available, the amount of time for oral comments may be limited. Written public comments may be sent to the BLM Idaho State Office listed in the ADDRESSES section of this notice. All comments received at least one week prior to the meeting will be provided to the Idaho RAC. Please include “RAC comment” in your submission.

Before including your address, phone number, email address, or other personal identifying information in your comments, please be aware that your entire comment—including your personal identifying information—may be made publicly available at any time. While you can ask us in your comments to withhold your personal identifying information from public review, we cannot guarantee that we will be able to do so. Detailed summary minutes for the Idaho RAC meetings will be maintained in the BLM Idaho State Office and will be available for public inspection and reproduction during regular business hours within 30 days of the meetings. Previous minutes and agendas are also available on the Idaho RAC web page listed above.

(Authority: 43 CFR 1784.4-2)

June Shoemaker,
Acting BLM Idaho State Director.

[FR Doc. 2024-07951 Filed 4-15-24; 8:45 am]

BILLING CODE 4331-19-P